DEPARTMENT OF DEFENSE

Department of the Navy

Meetings of the Naval Research Advisory Committee

AGENCY: Department of the Navy, DOD.

ACTION: Notice of closed meetings.

SUMMARY: The Naval Research Advisory Committee (NRAC) Panel on Science and Technology for Modular Systems will meet to hold classified Government briefs and receive proprietary information from individuals and government concerns that the Department of the Navy should incorporate in its recommendations for near and far term technologies or equipment to be developed.

DATES: The meetings will be held on Wednesday, July 14, 2004, from 12 p.m. to 5 p.m.; Thursday, July 15, 2004, from 8 a.m. to 5 p.m.; and Friday, July 16, 2004, from 8 a.m. to 12 p.m.

ADDRESSES: The meetings will be held at Jorge Scientific, 2900 South Quincy Street, Arlington, VA 22206 on July 14, 2004, and at the Office of Naval Research, 800 North Quincy Street, Arlington, VA 22217-5660 on July 15 and 16, 2004.

FOR FURTHER INFORMATION CONTACT: Dennis Ryan, Program Director, Naval Research Advisory Committee, 800 North Quincy Street, Arlington, VA 22217-5660, (703) 696-6769.

SUPPLEMENTARY INFORMATION: This notice is provided in accordance with the provisions of the Federal Advisory Committee Act (5 U.S.C. App. 2). All sessions of the meetings will be devoted to executive sessions that will include discussions and technical examination of information related to venture capital technologies. These briefings and discussions will contain proprietary information and classified information that is specifically authorized under criteria established by Executive Order to be kept secret in the interest of national defense and are in fact properly classified pursuant to such Executive Order. The proprietary, classified, and non-classified matters to be discussed are so inextricably intertwined as to preclude opening any portion of the meetings. In accordance with 5 U.S.C. App. 2, section 10(d), the Secretary of the Navy has determined in writing that all sessions of the meetings must be closed to the public because they were concerned with matters listed in 5 U.S.C. section 552b(c)(1) and (4). Due to unavoidable delay in administrative processing, the 15 days advance notice could not be provided.

Dated: July 6, 2004.
J.T. Baltimore,
Lieutenant Commander, Judge Advocate General's Corps, U.S. Navy, Alternate Federal Register Liaison Officer.

[FR Doc. 04-15688 Filed 7-8-04; 8:45 am]

BILLING CODE 3810-FF-P